DEPARTMENT OF ENERGY

Federal Energy Regulatory Commission

Combined Notice of Filings

Take notice that the Commission has received the following Natural Gas Pipeline Rate and Refund Report filings:

Filings Instituting Proceedings

Docket Numbers: RP16-834-000.

Applicants: Sabine Pipe Line LLC.

Description: § 4(d) Rate Filing: Sabine Clean-up Filing 4-12-16 to be effective 4/1/2016.

Filed Date: 4/12/16.

Accession Number: 20160412-5114.

Comments Due: 5 p.m. ET 4/25/16.

Docket Numbers: RP16-835-000.

Applicants: Kinetica Energy Express, LLC.

Description: Compliance filing Compliance Filing for Order Nos 587-W and 809 Revised Sheet 119 to be effective 4/1/2016.

Filed Date: 4/12/16.

Accession Number: 20160412-5292.

Comments Due: 5 p.m. ET 4/25/16.

Docket Numbers: RP16-836-000.

Applicants: Northern Natural Gas Company.

Description: § 4(d) Rate Filing: 20160412 Negotiated Rate to be effective 4/13/2016.

Filed Date: 4/12/16.

Accession Number: 20160412-5294.

Comments Due: 5 p.m. ET 4/25/16.

Docket Numbers: RP16-837-000.

Applicants: Black Marlin Pipeline Company.

Description: Black Marlin Pipeline Company's 2016 Cash-Out Report.

Filed Date: 4/12/16.

Accession Number: 20160412-5310.

Comments Due: 5 p.m. ET 4/25/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP16-474-001.

Applicants: ANR Storage Company.

Description: Compliance filing Compliance to RP16-474-000 to be effective 4/1/2016.

Filed Date: 4/12/16.

Accession Number: 20160412-5079.

Comments Due: 5 p.m. ET 4/25/16.

Docket Numbers: RP16-481-001.

Applicants: Bison Pipeline LLC.

Description: Compliance filing Compliance to RP16-481-000 to be effective 4/1/2016.

Filed Date: 4/12/16.

Accession Number: 20160412-5080.

Comments Due: 5 p.m. ET 4/25/16.

Docket Numbers: RP16-485-001.

Applicants: Blue Lake Gas Storage Company.

Description: Compliance filing Compliance to RP16-485-000 to be effective 4/1/2016.

Filed Date: 4/12/16.

Accession Number: 20160412-5077.

Comments Due: 5 p.m. ET 4/25/16.

Docket Numbers: RP16-563-001.

Applicants: Pine Needle LNG Company, LLC.

Description: Compliance filing Pine Needle Order No. 587-W (NAESB Version 3.0) Second Compliance to be effective 4/1/2016.

Filed Date: 4/12/16.

Accession Number: 20160412-5278.

Comments Due: 5 p.m. ET 4/25/16.

Docket Numbers: RP16-565-001.

Applicants: Transcontinental Gas Pipe Line Company,

Description: Compliance filing Order No. 587-W (NAESB Version 3.0) Second Compliance to be effective 4/1/2016.

Filed Date: 4/12/16.

Accession Number: 20160412-5291.

Comments Due: 5 p.m. ET 4/25/16.

Docket Numbers: RP16-571-001.

Applicants: Enable Mississippi River Transmission, L.

Description: Compliance filing NAESB 3.0 Compliance Filing to be effective 4/1/2016.

Filed Date: 4/12/16.

Accession Number: 20160412-5130.

Comments Due: 5 p.m. ET 4/25/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 13, 2016.
Nathaniel J. Davis, Sr.,
Deputy Secretary.

[FR Doc. 2016-09255 Filed 4-20-16; 8:45 am]

BILLING CODE 6717-01-P